DEPARTMENT OF TRANSPORTATION

Office of the Secretary

Aviation Proceedings, Agreements filed during week ending April 20, 2001.

The following Agreements were filed with the Department of Transportation under provisions of 49 U.S.C. Sections 412 and 414. Answers may be filed within 21 days after the filing of the applications.

Docket Number: OST-2001-9480.

Date Filed: April 19, 2001.

Parties: Members of the International Air Transport Association.

Subject: PTC2 AFR 0104 dated 17 April 2001 Mail Vote 121—Resolution 010y. TC2 Within Africa Special Passenger Amending Resolution from Botswana to Malawi. Intended effective date: 1 May 2001.

Docket Number: OST-2001-9499.

Date Filed: April 20, 2001.

Parties: Members of the International Air Transport Association.

Subject: PTC12 NMS-AFR 0105 dated 26 March 2001 (Mail Vote 119). North Atlantic-Africa Resolutions r21-r22. PTC12 NMS-AFR 0111 dated April 2001 adopting (Mail Vote 119). Minutes—PTC12 NMS-AFR 0107 dated 30 March 2001. Summary of Agreement (Applicable to/from USA, US Territories). Description of Agreement (Not Applicable to/from US, USA Territories). Tables—PTC12 NMS-AFR Fares 0061 dated 20 April 2001. Intended effective date: 1 May 2001.

Dorothy Y. Beard,
Federal Register Liaison.

[FR Doc. 01-10968 Filed 5-1-01; 8:45 am]

BILLING CODE 4910-62-P